DEPARTMENT OF THE INTERIOR

Fish and Wildlife Service

Washita National Wildlife Refuge, Custer County, OK, and Optima National Wildlife Refuge, Texas County, OK

AGENCY: Fish and Wildlife Service, Interior.

ACTION: Notice of availability: draft comprehensive conservation plan and environmental assessment; announcement of public meeting; and request for comments.

SUMMARY: We, the U.S. Fish and Wildlife Service (Service), announce the availability of a draft comprehensive conservation plan (CCP) and draft environmental assessment (EA) for the Washita and Optima National Wildlife Refuges (Refuges, NWRs) for public review and comment. In this draft CCP/EA, we describe how we intend to manage these Refuges for the 15-year period beginning when we make the final version of this CCP/EA available.

DATES: To ensure consideration, we must receive your written comments by November 1, 2007. We will hold a public meeting to provide information about the CCP planning process and solicit comments from interested parties; see Public Meeting under SUPPLEMENTARY INFORMATION for date, time, and location.

ADDRESSES: Send your comments or requests for more information by any of the following methods. You may also view or drop off comments in person.

• National Wildlife Refuge System, Southwest Region Planning Division Web Site: http://www.fws.gov/southwest/refuges/Plan/index.html. Download a copy of the document(s) at http://www.fws.gov/southwest/refuges/Plan/completeplans.html.

• E-mail: john_slown@fws.gov. Include “Washita and Optima Draft CCP/EA” in the subject line of the message. Specify whether you want to receive a hard copy or CD-ROM by U.S. mail or an electronic copy by e-mail.

• Fax: 505-248-6874.

• U.S. Mail: John Slown, Conservation Planner, USFWS, R-2 Planning Division, P.O. Box 1306, Albuquerque, New Mexico 87103.

• In-Person Drop-off, Viewing, or Pickup: Call 580-664-2205 to make an appointment during regular business hours at Washita National Wildlife Refuge (NWR), 20834 E. 940 Road, Butler, OK 73625.

FOR FURTHER INFORMATION CONTACT: John Slown, by telephone at 505-248-7458 or by e-mail at john_slown@fws.gov, or David Maple, Refuge Manager, by telephone at 580-664-2205.

SUPPLEMENTARY INFORMATION:

Introduction

With this notice, we continue the CCP process for Washita and Optima Refuges, which we started with a notice of intent to prepare a CCP that appeared in the November 17, 1999, issue of the Federal Register (64 FR 62683). For more about the initiation of this process, see that notice. The Washita National Wildlife Refuge was established in 1961 by the authority of the Fish and Wildlife Conservation Act (16 U.S.C. 661-667e) as a management overlay on Bureau of Reclamation lands and waters of Foss Reservoir, for conservation of its wildlife resource. Approximately 10 acres of land acquired through the use of Migratory Bird Conservation Stamp Act funds are to be used as an inviolate sanctuary, or for any other management purpose, for migratory birds (16 U.S.C. 715d [Migratory Bird Conservation Act]).

Comprised of the northern portion of Foss Reservoir, adjacent wetlands, uplands, and the Washita River corridor in western Oklahoma, the 8,075-acre Refuge is managed to provide habitat and food for migrating and wintering populations of geese and ducks in the Central Flyway, contributing to conservation of waterfowl resources. The Refuge has also been managed to provide a diversity of habitats for a wide range of migratory bird species, including the whooping crane (Federally listed as threatened and endangered species), neotropical migratory birds (i.e., birds that breed in the United States or Canada, but migrate to winter ranges in Mexico, Central America, South America, or the Caribbean Islands), and shorebirds. Deer, coyote, bobcat, badger, opossum, and other resident wildlife species thrive on the Refuge as well.

Management efforts at Washita Refuge focus on enhancing wetlands and uplands for migratory birds and other wildlife species.

The Optima National Wildlife Refuge was established in 1975 under the authority of the Fish and Wildlife Coordination Act (16 U.S.C. 661-667e, as amended), by agreement between the Department of the Interior and the U.S. Army Corps of Engineers. While the original purpose of the 4,333-acre Refuge was provision of wintering and resting habitat for migratory waterfowl of the Central Flyway, the Refuge provides little habitat for migratory waterfowl due to lower than anticipated water impoundment rates in the Optima Reservoir. The Optima Refuge is currently managed for resident wildlife and migratory birds. The lack of water has reduced the potential for waterfowl management. The Refuge provides an island of largely undisturbed habitat for migratory songbirds and resident species including white-tailed deer, coyote, Rio Grande turkey, and scaled quail.

Background

The CCP Process

The National Wildlife Refuge System Administration Act of 1966, as amended by the National Wildlife Refuge System Improvement Act of 1997 (16 U.S.C. 668dd-668ee), requires us to develop a CCP for each national wildlife refuge. The purpose in developing a CCP is to provide refuge managers with a 15-year strategy for achieving refuge purposes and contributing toward the mission of the National Wildlife Refuge System, consistent with sound principles of fish and wildlife management, conservation, legal mandates, and our policies. In addition to outlining broad management direction on conserving wildlife and their habitats, plans identify wildlife-dependent recreational opportunities available to the public, including opportunities for hunting, fishing, wildlife observation, wildlife photography, and environmental education and interpretation. The National Environmental Policy Act of 1969 requires that Federal agencies analyze and report upon the potential effects of any major proposed actions and range of reasonable alternatives. The draft EA attached to the draft CCP satisfies this requirement.

CCP Alternatives and Our Proposed Action

Priority Issues

During the public scoping process with which we initiated work on this draft CCP, we, the Oklahoma Department of Wildlife Conservation, other partners, and the public raised several priority issues, which our draft CCP addresses. Priority issues included depredation of crops on farms adjacent to Washita Refuge by geese attracted to the Refuge, the need for more complete resource inventory of the biological resources of both Refuges, public pressure for additional recreational opportunities on the Refuges, and the difficulty of managing resources on Optima Refuge with no permanent staff on site. To address these priority issues, we developed and evaluated the following alternatives during the planning process.

Alternatives

Alternative 1, No Action, is current management, or what would occur on the Refuges if no management plans were implemented. Under Alternative 2, the Refuges would be operated at a custodial level; habitat management programs would cease and public access would be closed. Alternative 3 is the proposed action, and includes management actions and public uses that are considered to be the best feasible. Alternative 4 represents a maximum effort alternative, with intensive habitat management actions and maximized public use.

Habitat management activities: Under Alternative 1 Washita Refuge would continue to operate moist soil management areas, prescription fires, and farming for wildlife at the current levels. Under Alternative 1, habitat management on Optima Refuge would be limited to the current level of farming for wildlife and periodic clearing of firebreaks along the Refuge boundaries. Under Alternative 2, there would be no active habitat management at either Refuge. Under Alternative 3, the proposed action, habitat management would include development and implementation of an integrated pest management plan at both Refuges. Farming for wildlife would be continued at both Refuges, but would be comprehensively reviewed for appropriateness and effectiveness. Similarly, moist soil management would be continued at Washita Refuge. Both Refuges would establish annual goals for prairie restoration in areas previously altered by tillage or over-grazing. A program of salt cedar eradication and cottonwood establishment would be implemented at Optima Refuge. Under Alternative 4, habitat management programs at each Refuge would be maximized, and acreage of land farmed for wildlife or managed as moist soil units would be increased.

Public Use Opportunities: Under Alternative 1, No Action, the current levels of public use and visitor facility development would remain at each Refuge. Washita Refuge would continue to offer waterfowl and deer hunts and would maintain the Centennial Trail, and several other interpretive signs and visitor access parking areas. Optima Refuge would continue to offer upland game and deer archery hunts and passive recreation with extremely limited developed facilities. Under Alternative 2, both Refuges would be closed to the public. Under Alternative 3, the proposed action, Washita Refuge would evaluate additional hunt opportunities, develop a primitive hiking trail with interpretive signs, develop additional interpretive signage, and develop a visitor center on the Refuge administrative site. Optima Refuge would develop additional interpretive signage at existing parking areas. Curriculum materials and other educational and interpretive outreach resources would be developed and distributed to schools and other institutions in the towns surrounding each Refuge. Under Alternative 4, public use opportunities at both Refuges would be maximized. In addition to the programs and features proposed under Alternative 3, Washita NWR would develop additional vehicular access and parking areas, a canoe trail along the Washita River with parking at put-in and take-out points, and 5 miles of interpreted hiking trails. Optima NWR would develop two wildlife viewing platforms overlooking the Refuge and a marked hiking trail with interpretive signage.

Public Availability of Comments

Before including your address, telephone number, e-mail address, or other personal identifying information in your comment, you should be aware that your entire comment—including your personal identifying information—may be made publicly available at any time. While you can ask us in your comment to withhold your personal identifying information from public review, we cannot guarantee that we will be able to do so. We will make all comments part of the official public record. We will handle requests for such comments in accordance with the Freedom of Information Act, NEPA, and Service and Departmental policies and procedures.

Dated: July 26, 2007.
Christopher T. Jones,
Acting Regional Director, U.S. Fish and Wildlife Service, Albuquerque, New Mexico.

[FR Doc. E7-18165 Filed 9-14-07; 8:45 am]

BILLING CODE 4310-55-P